DEPARTMENT OF AGRICULTURE

Forest Service

Bridger-Teton National Forest—Big Piney Ranger District, Wyoming; Eagle Prospect

AGENCY: Forest Service, USDA.

ACTION: Notice of intent to prepare an Environmental Impact Statement.

SUMMARY: The Forest Service has received notification from Plains Exploration & Production Company (PXP) that the company proposes to drill three exploratory oil and gas wells on National Forest System (NFS) lands in the Noble Basin area, about seven miles southeast of Bondurant in Sublette County, Wyoming. The proposed wells would evaluate production potential within the Eagle Prospect. The proposed project would include improvements to existing roads and new road construction to provide access to the drill location, construction of a single drill pad from which three wells would be drilled, and road decommissioning and rehabilitation of an existing low standard road into the area. Design of the proposed project, including final access route selection and well facilities would be required for production testing, will also be considered in the Environmental Impact Statement (EIS).

DATES: Comments concerning the proposed action should be received by February 13, 2006. Comments on issues that you feel should be evaluated as part of this analysis or are essential to this environmental analysis process should be submitted by the above date. Please direct any project related questions or comments to the following individuals. The Draft EIS (DEIS) is expected to be filed with the Environmental Protection Agency (EPA) and to be available for public comment in September 2006 and the Final EIS (FEIS) is expected to be available in the May 2007.

ADDRESSES: Send written comments to: Greg Clark, District Ranger, Big Piney Ranger District; PO Box 218; Big Piney, Wyoming 83113. Electronic comments may be sent to mailroom_r4_bridger_teton@fs.fed.us with the subject line “Eagle Prospect”.

FOR FURTHER INFORMATION CONTACT: Teresa Trulock, Project Manager, at the Big Piney Ranger District at 307-276-3375.

SUPPLEMENTARY INFORMATION:

Project Area

The Eagle Prospect is located in the Noble Basin area, south of Muddy Creek, within Township 36 North, Range 113 West, Sixth Principal Meridian. The project area consists of the South Rim Unit, an exploration unit previously by the Bureau of Land Management (BLM) to ensure that exploration will be orderly and environmental effects will be minimized. The South Rim Unit encompasses 19,427 acres of federal minerals in Township 36 North, Range 113 West, including portions of the Big Piney Ranger District, Bridger-Teton National Forest and federal minerals underlying the Hoback Ranches subdivision.

Purpose and Need for Action

The purpose of this proposal is for the Forest Service to analyze exploration and development of existing federal oil and gas leases within the South Rim Unit by PXP, the unit operator, which allows them to exercise the leaseholders' existing rights to drill for, extract, remove, and market oil and gas products. The National Energy Policy recognizes the need to develop federal energy resources to meet continuing national needs and economic demands so long as natural resource values and uses are sustained.

Proposed Action

PXP proposes to conduct exploratory drilling to evaluate the Eagle Prospect by constructing an access road and a single drill pad from which three wells would be drilled. Access to the project area from Daniel Junction, north of Pinedale, is by State Highway 354 to Merna, and then along Sublette County Road #23-115 and forest development roads. PXP has submitted a Notice of Staking (NOS) and an Application for Permit to Drill (APD) to the BLM and Forest Service for each of three oil and gas wells, Eagle #1-8, Eagle #2-8, and Eagle #3-8, that would be drilled in the NW¼SW¼ or Section 8 in Township 36 North, Range 113 West. The proposed project would include improvements to existing forest development roads over a distance of 7.3 miles. New road construction would occur over a distance of 4.2 miles, within portions of Sections 8, 16, 17, and 21 in Township 36 North, Range 113 West. Proposed surface disturbance would affect 2.6 acres for the drill pad and 15 acres for new road construction. Construction is anticipated to begin in mid-year 2007. After construction of the access road and drill pad is completed, well drilling is expected to occur over three to four months. The drill pad would be recontoured and revegetated if drilling is unsuccessful.

The proposed well access route would also be used to provide public access to NFS lands. Road decommissioning and rehabilitation of an existing low standard road into the area would be accomplished in conjunction with the proposed project. This action would support current Forest Plan guidance based on a roads analysis previously conducted by the Forest Service.

Possible Alternatives

The proposed access route has been identified. Possible alternatives to the proposed action include the selection of a different access route or route segment and modification of other project design features. PXP has designed the proposed project so that only one drill location would be used to drill three wells. The scoping process and environmental analysis will evaluate the feasibility of alternatives to the proposed action.

Responsible Official

Greg Clark, District Ranger; Big Piney Ranger District; P.O. Box 218; Big Piney, Wyoming 83113.

Nature of Decision To Be Made

The decision, which is based on this analysis, will be to decide whether to approve or modify the Surface Use Programs for the APDs submitted for the Eagle #1-8, Eagle #2-8, and Eagle #3-8 wells, and to specify the access route and other project design criteria, best management practices, mitigating measures, and monitoring requirements that will be included in the drilling and surface use programs or as conditions of approval for these wells. The decision will include reasonable measures identified as being needed during this analysis process in addition to any prescribed in the Forest Plan.

Scoping Process

The Forest Service is seeking information, comments, and assistance from individuals, organizations and federal, state, and local agencies that may be interested in or affected by the proposed action (36 CFR 219.6).

Public comments will be used and disclosed in the environmental analysis documented in the Eagle Prospect EIS. Public participation will be solicited by notifying in person and/or by mail known interested and affected parties. A legal notice and news releases will be used to give the public general notice. Open houses will be held from 4 p.m. to 7 p.m. on Monday, January 30, 2006, at the Bondurant Elementary School in Bondurant and from 4 p.m. to 7 p.m. on Tuesday, January 31, 2006 at the Public Library in Pinedale. Forest Service and PXP representatives will be available to explain the project and answer questions.

A reasonable range of alternatives will be evaluated and reasons will be given for eliminating alternatives from detailed study. A “no-action alternative” is required, meaning that the Surface Use Programs for the APDs under consideration by the BLM and Forest Service would not be approved. Alternatives will provide different access routes and project design criteria in response to public issues, management concerns, and resource opportunities identified during the scoping process. Scoping comments and existing condition reports will also be used to develop alternatives. It is possible that no other action alternative, other than the proposed action, will be determined to be feasible by the environmental analysis.

Preliminary Issues

The Forest Service has identified the following potential issues. No determination has been made as to which issues will be examined in detail in the environmental analysis. Your input will help determine which of these issues merit detailed analysis and will also help identify additional issues related to the proposed action that may not be listed here.

• Effects of improved road access on inventoried roadless areas.

• Effects of improved road access on travel management and enforcement.

• Effects of drilling on groundwater resources and nearby water wells.

• Effects of project activities on streams and watersheds.

• Effects on wetlands and riparian areas.

• Effects of project activities on air quality.

• Effects on the scenic resources and the visual character of the project area.

• Effects on the Hoback Ranches subdivision.

• Rights-of-way across private lands.

• Effects on individuals, property, and highway traffic.

• Effects on local communities, including Bondurant and Pinedale.

• Public safety during project activities.

• Effects on areas with sensitive soils or potential slope sstability hazards.

• Effects on recreational uses, including hunting, fishing, and snowmobiling.

• Effects on wildlife and fisheries habitats and special status species (threatened and endangered species, sensitive species, and management indicator species).

• Potential for harassment or illegal hunting of wildlife during project activities.

• Potential for vehicle collisions with wildlife or livestock.

• Concern that newly discovered gas resources from the Eagle Prospect could be added to the Lower Valley Energy (LVE) pipeline currently being evaluated by the Forest Service. (Note: The proposed LVE pipeline is a transmission line that will only carry processed gas and will not function as a gathering line that could accommodate unprocessed gas from an exploratory well.)

Early Notice of Importance of Public Participation in Subsequent Environmental Review

The Draft EIS (DEIS) is expected to be filed with the Environmental Protection Agency (EPA) and to be available for public comment in September 2006. At that time, the EPA will publish a notice of availability for the DEIS in the Federal Register. The comment period on the DEIS will be 45 days from the date the EPA publishes the notice of availability in the Federal Register.

The Forest Service believes, at this early stage, it is important to give reviewers notice of several court rulings related to public participation in the environmental review process. First, reviewers of the DEIS must structure their participation in the environmental review of the proposal so that it is meaningful and alerts an agency to the reviewer's position and contentions; Vermont Yankee Nuclear Power Corp. v. NRDC. 435 U.S. 519, 533 (1978). Also, environmental objections that could be raised at the DEIS stage but are not raised until after completion of the Final Environmental Impact Statement (FEIS) may be waived or dismissed by the courts; City of Angoon v. Hodel, 803 F. 2d 1016, 1022 (9th Cir. 1986) and Wisconsin Heritages, Inc., v. Harris, 490 F. Supp. 1334, 1338 (E.D. Wis. 1980). Because of these court rulings, it is very important that those interested in this proposed action participate by the close of the 45 day comment period on the DEIS so that substantive comments and objections are made available to the Forest Service at a time when it can meaningfully consider them and respond to them in the Final EIS (FEIS).

To assist the Forest Service in identifying and considering issues and concerns on the proposed actions, comments on the DEIS should be as specific as possible. It is also helpful if comments refer to specific pages or chapters of the draft statement. Comments may also address the adequacy of the DEIS or the merits of the alternatives formulated and discussed in the statements. Reviewers may wish to refer to the Council on Environmental Quality Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 3, 2006.
Greg W. Clark,
District Ranger, Big Piney Ranger District, Bridger-Teton National Forest.

[FR Doc. 06-244 Filed 1-10-06; 8:45 am]

BILLING CODE 3410-11-M